DEPARTMENT OF COMMERCE

National Oceanic and Atmospheric Administration

50 CFR Part 660

[Docket No. 161222999-7413-01]

RIN 0648-XG222

Fisheries Off West Coast States; Modifications of the West Coast Commercial and Recreational Salmon Fisheries; Inseason Action #1

AGENCY: National Marine Fisheries Service (NMFS), National Oceanic and Atmospheric Administration (NOAA), Commerce.

ACTION: Modification of fishing seasons.

SUMMARY: NMFS announces one inseason action in the ocean salmon fisheries. This inseason action modified the commercial and recreational salmon fisheries in the area from Cape Falcon, OR, to Pigeon Point, CA.

DATES: The effective date for the inseason action is set out in this document under the heading Inseason Action.

FOR FURTHER INFORMATION CONTACT: Peggy Mundy at 206-526-4323.

SUPPLEMENTARY INFORMATION:

Background

In the 2017 annual management measures for ocean salmon fisheries (82 FR 19630, April 28, 2017), NMFS announced management measures for the commercial and recreational fisheries in the area from the U.S./Canada border to the U.S./Mexico border, beginning May 1, 2017, through April 30, 2018. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: California Department of Fish and Wildlife (CDFW) and Oregon Department of Fish and Wildlife (ODFW).

Management of the salmon fisheries is generally divided into two geographic areas: North of Cape Falcon (U.S./Canada border to Cape Falcon, OR) and south of Cape Falcon (Cape Falcon, OR, to the U.S./Mexico border). The inseason action reported in this document affected fisheries south of Cape Falcon.

Inseason Action

Inseason Action #1

Description of action: Inseason action #1 cancelled specific commercial and recreational ocean salmon fisheries south of Cape Falcon, OR, that were previously scheduled to open in March and April 2018 (82 FR 19630, April 28, 2017). The fisheries that were cancelled were:

—Commercial fishery from Cape Falcon, OR, to Florence South Jetty, OR, previously scheduled to open March 15, 2018;

—Commercial fishery from Florence South Jetty, OR, to Humbug Mountain, OR, previously scheduled to open March 15, 2018;

—Commercial fishery from Humbug Mountain, OR, to the Oregon/California border (Oregon Klamath Management Zone), previously scheduled to open March 15, 2018;

—Commercial fishery from Horse Mountain, CA, to Point Arena, CA, previously scheduled to open April 16-30, 2018;

—Recreational fishery from Horse Mountain, CA, to Point Arena, CA, previously scheduled to open April 7, 2018; and

—Recreational fishery from Point Arena, CA, to Pigeon Point, CA, previously scheduled to open April 7, 2018.

Effective dates: Inseason action #1 took effect on March 13, 2018, and remained in effect through April 30, 2018.

Reason and authorization for the action: The purpose of this action was to limit fishery impacts on Klamath River fall-run Chinook salmon (KRFC) and Sacramento River fall-run Chinook salmon (SRFC). Both stocks failed to achieve their conservation objectives in 2017 and currently meet the status determination criteria identified in the Pacific Coast Salmon Fishery Management Plan for being overfished. Therefore, the states of Oregon and California recommended cancelling the fisheries described above. The West Coast Regional Administrator (RA) considered the spawning escapement and abundance history for KRFC and SRFC, the stocks' 2018 abundance forecasts, and projected fishery impacts on these stocks in 2018, and determined that this inseason action was necessary to meet conservation and management objectives for these stocks. Inseason actions to modify quotas or fishing seasons are authorized by 50 CFR 660.409(b)(1)(i).

Consultation date and participants: Consultation on inseason action #1 occurred on March 13, 2018. Representatives from NMFS, ODFW, CDFW, and the Council participated in this consultation.

All other restrictions and regulations remain in effect as announced for the 2017 ocean salmon fisheries and 2018 salmon fisheries opening prior to May 1, 2018 (82 FR 19631, April 28, 2017) and as modified by prior inseason actions.

The RA determined that the best available information indicated that Chinook salmon abundance forecasts and expected fishery effort in 2018 supported the above inseason action recommended by the states of Oregon and California. The states manage the fisheries in state waters adjacent to the areas of the U.S. exclusive economic zone consistent with these federal actions. As provided by the inseason notice procedures of 50 CFR 660.411, actual notice of the described regulatory action was given, prior to the time the action was effective, by telephone hotline numbers 206-526-6667 and 800-662-9825, and by U.S. Coast Guard Notice to Mariners broadcasts on Channel 16 VHF-FM and 2182 kHz.

Classification

NOAA's Assistant Administrator (AA) for NMFS, finds that good cause exists for this notification to be issued without affording prior notice and opportunity for public comment under 5 U.S.C. 553(b)(B) because such notification would be impracticable. As previously noted, actual notice of the regulatory action was provided to fishers through telephone hotline and radio notification. This action complies with the requirements of the annual management measures for ocean salmon fisheries (82 FR 19631, April 28, 2017), the Pacific Coast Salmon Fishery Management Plan (FMP), and regulations implementing the FMP, 50 CFR 660.409 and 660.411. Prior notice and opportunity for public comment was impracticable because NMFS and the state agencies had insufficient time to provide for prior notice and the opportunity for public comment between the time Chinook salmon catch and effort projections and abundance forecasts were developed and fisheries impacts were calculated, and the time the fishery modifications had to be implemented in order to ensure that fisheries are managed based on the best available scientific information, ensuring that conservation objectives and limits for impacts to salmon species listed under the Endangered Species Act are not exceeded. The AA also finds good cause to waive the 30-day delay in effectiveness required under 5 U.S.C. 553(d)(3), as a delay in effectiveness of this action would allow fishing at levels inconsistent with the goals of the FMP and the current management measures.

This action is authorized by 50 CFR 660.409 and 660.411 and is exempt from review under Executive Order 12866.

Authority: 16 U.S.C. 1801 et seq.

Dated: May 30, 2018.
Jennifer M. Wallace,
Acting Director, Office of Sustainable Fisheries, National Marine Fisheries Service.

[FR Doc. 2018-11883 Filed 6-1-18; 8:45 am]

BILLING CODE 3510-22-P